DEPARTMENT OF DEFENSE

Office of the Secretary

[Transmittal No. 21-37]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-37 with attached Policy Justification and Sensitivity of Technology.

Dated: February 9, 2023.
Aaron T. Siegel,
Alternate OSD Federal Register Liaison Officer, Department of Defense.

BILLING CODE 5001-06-P

BILLING CODE 5001-06-C

Transmittal No. 21-37

Notice of Proposed Issuance of Letter of Offer Pursuant to Section 36(b)(1) of the Arms Export Control Act, as Amended

(i) Prospective Purchaser: Government of India

(ii) Total Estimated Value:

Major Defense Equipment * | $ 27 million.
Other | $ 55 million.
Total | $ 82 million.
Funding Source: National Funds.

(iii) Description and Quantity or Quantities of Articles or Services Under Consideration for Purchase:

Major Defense Equipment (MDE):

One (1) Harpoon Joint Common Test Set (JCTS)

Non-MDE:

Also included is one (1) Harpoon Intermediate Level maintenance station; spare and repair parts, support, and test equipment; publications and technical documentation; personnel training; U.S. Government and contractor technical, engineering, and logistics support services; and other related elements of logistics and program support.

(iv) Military Department: Navy (IN-P-LAX).

(v) Prior Related Cases, if any: IN-P-AAL, IN-P-AAP, IN-P-ABC.

(vi) Sales Commission, Fee, etc., Paid, Offered, or Agreed to be Paid: None.

(vii) Sensitivity of Technology Contained in the Defense Article or Defense Services Proposed to be Sold: See Attached Annex.

(viii) Date Report Delivered to Congress: August 2, 2021.

*As defined in Section 47(6) of the Arms Export Control Act.

POLICY JUSTIFICATION

India—Harpoon Joint Common Test Set (JCTS)

The Government of India has requested to buy one (1) Harpoon Joint Common Test Set (JCTS). Also included is one (1) Harpoon Intermediate Level maintenance station; spare and repair parts, support, and test equipment; publications and technical documentation; personnel training; U.S. Government and contractor technical, engineering, and logistics support services; and other related elements of logistics and program support. The estimated total cost is $82 million.

This proposed sale will support the foreign policy and national security of the United States by helping to strengthen the U.S.-Indian strategic relationship and to improve the security of a major defensive partner, which continues to be an important force for political stability, peace, and economic progress in the Indo-Pacific and South Asia region.

This proposed sale will improve India's capability to meet current and future threats by providing India with flexible and efficient Harpoon missile maintenance capabilities to ensure maximum force readiness. India will have no difficulty absorbing this equipment into its armed forces.

The proposed sale of this equipment and support will not alter the basic military balance in the region.

The principal contractor will be The Boeing Company, St. Louis, MO. There are no known offset agreements proposed in connection with this potential sale. Any offset agreement required by India will be defined in negotiations between the purchaser and the contractor(s).

Implementation of this proposed sale will require the assignment of one (1) U.S. contractor representative to India for a duration of one (1) year to support technical reviews, support, and oversight.

There will be no adverse impact on U.S. defense readiness as a result of this proposed sale.

Transmittal No. 21-37

Notice of Proposed Issuance of Letter of Offer Pursuant to Section 36(b)(1) of the Arms Export Control Act

Annex Item No. vii

(vii) Sensitivity of Technology:

1. The Harpoon Joint Common Test Set (JCTS) is used to maintain all configurations of the Harpoon missile. India seeks to establish a Harpoon Intermediate Level Weapon Station via an acquisition of a JCTS that can test their current inventory, as well as up to a BLK IIU Harpoon Missile. The elements listed below being conveyed by the proposed sale are considered sensitive. These elements are used to test and verify the ability of the Harpoon missile to engage hostile targets under a wide range of operations, tactical, and environmental conditions:

a. The Radar Seeker test capability

b. The Radar Altimeter test capability

c. The GPS/INS System test capability

d. Operational Flight Program Software

e. Missile operational characteristics and performance data

2. The highest level of classification of defense articles, components, and services included in this potential sale is CONFIDENTIAL.

3. If a technologically advanced adversary were to obtain knowledge of the specific hardware and software elements, the information could be used to develop countermeasures that might reduce weapon system effectiveness or be used in the development of a system with similar or advanced capabilities.

4. A determination has been made that India can provide substantially the same degree of protection for the sensitive technology being released as the U.S. Government. This sale is necessary in furtherance of the U.S. foreign policy and national security objectives outlined in the Policy Justification.

5. All defense articles and services listed in this transmittal have been authorized for release and export to the Government of India.

[FR Doc. 2023-03102 Filed 2-13-23; 8:45 am]

BILLING CODE 5001-06-P